DEPARTMENT OF DEFENSE

Office of the Secretary

[Docket ID: DoD-2024-OS-0078]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 9, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Deputy Director Health and Resilience, 4800 Mark Center Drive, Suite 06E22, Alexandria VA 22350-4000, Lisa Davis, 703-338-8926.

SUPPLEMENTARY INFORMATION:

Title; Associated Form; and OMB Number: Workplace and Gender Relations Survey of DoD Civilians; OMB Control Number 0704-0614.

Needs and Uses: The legal requirements for the Workplace and Gender Relations Survey of DoD Civilians (WGRC) surveys can be found in the found in the National Defense Authorization Act for Fiscal Year 2015, section 1073, and 10 United States Code (U.S.C.), sections 481a, 136, and 2358. These legal requirements mandate that the WGRC solicit information on gender issues, including issues relating to sexual assault, sexual harassment, and gender discrimination in the DoD civilian employee workplace, as well as the climate in the Department for forming professional relationships between male and female employees. They also give the Department authority to conduct such surveys under the guidance of the USD(P&R).

The Office of People Analytics (OPA) administers both web-based and paper-and-pen surveys to support the personnel information needs of the USD(P&R). The WGRC survey expands a series of surveys that began in 1988 with military personnel to DoD civilian employees. OPA conducted Joint Service gender issues surveys of active-duty members in 1988, 1995, 2002, 2006, 2010, 2012, 2016, 2018, 2021, and 2023 and of Reserve component members in 2004, 2008, 2012, 2015, 2017, 2019, 2021, and 2023. This is the fourth iteration of WGRC surveys with DoD civilian employees, with the first iteration occurring in 2016, the second administration in 2018, and the third administration in 2021. The WGRC survey is voluntary and legislatively required to be conducted every two years.

Information from the WGR surveys will be used by DoD policy offices and the Military Departments for program evaluation and, specifically, to assess and improve personnel policies, programs, practices, and training related to gender relations in the DoD civilian workplace. OPA will provide reports to DoD policy offices, each Military Department, and the Joint Chiefs of Staff.

Affected Public: Individuals or households.

Annual Burden Hours: 67,500.

Number of Respondents: 135,000.

Responses per Respondent: 1.

Annual Responses: 135,000.

Average Burden per Response: 30 minutes.

Frequency: Biennially.

Dated: July 2, 2024.
Aaron T. Siegel,
Alternate OSD Federal Register Liaison Officer, Department of Defense.

[FR Doc. 2024-15041 Filed 7-8-24; 8:45 am]

BILLING CODE 6001-FR-P